COMMODITY FUTURES TRADING COMMISSION

Privacy Act of 1974 System of Records Notice

AGENCY: Commodity Futures Trading Commission (CFTC).

ACTION: Notice of the retirement of one Privacy Act system of records.

SUMMARY: In accordance with the Privacy Act of 1974, the Commodity Futures Trading Commission is providing notice that it is retiring one system of records notice, CFTC-7, Formal Employment Discrimination Complaint and Reasonable Accommodation Files, from its inventory of record systems because the relevant records are covered by existing government-wide system notices.

DATES: Effective upon publication.

FOR FURTHER INFORMATION CONTACT: Kathy Harman-Stokes, Chief Privacy Officer, kharman-stokes@cftc.gov, 202-418-6629, Office of the Executive Director, Commodity Futures Trading Commission, Three Lafayette Centre, 1155 21st Street NW., Washington, DC 20581.

SUPPLEMENTARY INFORMATION: Pursuant to the Privacy Act of 1974, 5 U.S.C. 552a, and as part of the Commodity Futures Trading Commission effort to review and update system of records notices, the Commission is retiring one system of records notice, CFTC-7, Formal Employment Discrimination Complaint and Reasonable Accommodation Files. The Commission is retiring the system notice because the records are covered by existing government-wide notices, EEOC/GOVT-1, Equal Employment Opportunity in the Federal Government Complaint and Appeal Records, and OPM/GOVT-10, Employee Medical File System Records.

The Commission will continue to collect and maintain records regarding discrimination and sexual harassment claims, complaints and related material and will rely upon and follow the existing Federal government-wide system of records notice titled EEOC/GOVT-1, Equal Employment Opportunity in the Federal Government Complaint and Appeal Records. The Commission also will continue to collect and maintain records regarding requests for work-related accommodations, and will rely upon and follow existing government-wide system of records notice entitled OPM/GOV-10, Employee Medical File System Records (71 FR 35360 June 19, 2006). Eliminating CFTC-7 will not have an adverse impact on individuals and will promote the overall streamlining and management of CFTC Privacy Act record systems.

Accordingly, this notice formally terminates system of records notice CFTC-7 and removes it from the inventory of the Commodity Futures Trading Commission.

Issued in Washington, DC, on March 6, 2012, by the Commission.
David A. Stawick,
Secretary of the Commission.

[FR Doc. 2012-5875 Filed 3-9-12; 8:45 am]

BILLING CODE P